DEPARTMENT OF ENERGY

Federal Energy Regulatory Commission

Combined Notice of Filings #1

Take notice that the Commission received the following electric rate filings:

Docket Numbers: ER10-2371-002.

Applicants: New York Independent System Operator, Inc.

Description: Compliance filing per 35: NYISO Compliance tariff revs to SCR rules to be effective 3/19/2015.

Filed Date: 4/20/15.

Accession Number: 20150420-5274.

Comments Due: 5 p.m. ET 5/11/15.

Docket Numbers: ER13-948-003.

Applicants: Entergy Services, Inc.

Description: Motion of Entergy Services, Inc., on behalf of the Entergy Operating Companies, for temporary and limited waiver of formula rate implementation requirements, etc.

Filed Date: 4/17/15.

Accession Number: 20150417-5390.

Comments Due: 5 p.m. ET 5/8/15.

Docket Numbers: ER15-1540-000.

Applicants: Southwest Power Pool, Inc.

Description: § 205(d) rate filing per 35.13(a)(2)(iii): 1066R7 Northeast Texas Electric Cooperative NITSA and NOA to be effective 4/1/2015.

Filed Date: 4/21/15.

Accession Number: 20150421-5060.

Comments Due: 5 p.m. ET 5/12/15.

Docket Numbers: ER15-1541-000.

Applicants: Midcontinent Independent System Operator, Inc.

Description: § 205(d) rate filing per 35.13(a)(2)(iii): 2015-04-21_SA 764 Bills of Sale for ATC-Wisconsin Electric Agreement to be effective 6/21/2015.

Filed Date: 4/21/15.

Accession Number: 20150421-5072.

Comments Due: 5 p.m. ET 5/12/15.

Docket Numbers: ER15-1542-000.

Applicants: Midcontinent Independent System Operator, Inc.

Description: § 205(d) rate filing per 35.13(a)(2)(iii): 2015-04-21_SA 2779 ATC-Wisconsin Electric Common Facilities Agreement to be effective 6/21/2015.

Filed Date: 4/21/15.

Accession Number: 20150421-5080.

Comments Due: 5 p.m. ET 5/12/15.

Docket Numbers: ER15-1543-000.

Applicants: Wisconsin Public Service Corporation.

Description: § 205(d) rate filing per 35.13(a)(2)(iii): Revised Local Balancing Authority Area Agreement Between WPSC and WPL to be effective 6/20/2015.

Filed Date: 4/21/15.

Accession Number: 20150421-5083.

Comments Due: 5 p.m. ET 5/12/15.

Docket Numbers: ER15-1544-000.

Applicants: Midcontinent Independent System Operator, Inc., WPPI Energy.

Description: Request for Transmission Incentive Rate Treatments of Midcontinent Independent System Operator, Inc. and WPPI Energy.

Filed Date: 4/21/15.

Accession Number: 20150421-5103.

Comments Due: 5 p.m. ET 5/12/15.

Docket Numbers: ER15-1545-000.

Applicants: Midcontinent Independent System Operator, Inc.

Description: § 205(d) rate filing per 35.13(a)(2)(iii): 2015-04-21_SA 764 Notice of Termination of Bills of Sale (ATC-WE) to be effective 6/21/2015.

Filed Date: 4/21/15.

Accession Number: 20150421-5117.

Comments Due: 5 p.m. ET 5/12/15.

Docket Numbers: ER15-1546-000.

Applicants: Wisconsin Public Service Corporation.

Description: § 205(d) rate filing per 35.13(a)(2)(iii): WPSC Filing to Add Regulatory Asset to W-1A Tariff and Rate Schedule No. 87 to be effective 6/1/2015.

Filed Date: 4/21/15.

Accession Number: 20150421-5209.

Comments Due: 5 p.m. ET 5/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2015.
Nathaniel J. Davis, Sr.,
Deputy Secretary.

[FR Doc. 2015-09663 Filed 4-24-15; 8:45 am]

BILLING CODE 6717-01-P